DEPARTMENT OF COMMERCE

Bureau of Industry and Security

15 CFR Part 774

[Docket No. 021009232-3125-02]

RIN 0694-AC57

Exports and Reexports to the Federal Republic of Yugoslavia: Lifting of UN Arms Embargo-Based Controls; Clarification of UN Arms Embargo-Based Controls on Rwanda

AGENCY: Bureau of Industry and Security, Commerce.

ACTION: Final rule; correcting amendments.

SUMMARY: On November 25, 2002, the Bureau of Industry and Security (BIS) published a final rule that amended the Export Administration Regulations (EAR) by removing the special controls on the export and reexport of arms-related items imposed on July 14, 1998 on the Federal Republic of Yugoslavia (Serbia and Montenegro) (FRY). This rule corrects inadvertent errors in Category 6—Sensors and Lasers—of the Commerce Control List made by the November 25, 2002 rule.

DATES: This rule is effective June 30, 2003.

ADDRESSES: Although there is no public comment period, written comments on this rule may be sent to Sheila Quarterman, Office of Exporter Services, Regulatory Policy Division, Bureau of Industry and Security, Department of Commerce, P.O. Box 273, Washington, DC 20044 or to E-mail address squarter@bis.doc.gov.

FOR FURTHER INFORMATION CONTACT: Sheila Quarterman in the Office of Exporter Services, Regulatory Policy Division, Bureau of Industry and Security, at (202) 482-2440.

SUPPLEMENTARY INFORMATION: This document corrects errors made by the November 25, 2002 rule (67 FR 70545) (FRY Rule) relating to changes made by two earlier rules published in August and September, 2002. These errors appear in the License Requirements and License Exceptions sections for Export Control Classification Numbers (ECCNs) 6E001 and 6E002. These ECCNs had been revised in two final rules, Licensing Jurisdiction for “Space Qualified” Items and Telecommunications Items for Use on Board Satellites, published by BIS on September 23, 2002 (67 FR 59722), and Revisions and Clarifications to the Export Administration Regulations—Nuclear Nonproliferation Controls: Nuclear Suppliers Group, published August 29, 2002 (67 FR 55594).

License Requirements for ECCNs 6E001 and 6E002

Subsequent to the issuance of these two earlier rules, the FRY Rule omitted the September 23, 2002 rule's revision to the Reason for Control section of ECCNs 6E001 and 6E002 that reads as follows: RS applies to “technology” for equipment controlled by 6A002.a.1, .a.2, .a.3, .c, or .e, 6A003.b.3, or .b.4, or 6A008.j.1. In addition, the FRY Rule omitted the Non-Proliferation controls for “technology” for items controlled by ECCN 6D001 from the Reason for Control section of ECCN 6E001, as was revised by the August 29, 2002 rule. This document corrects the stated inadvertent omissions.

License Exceptions for ECCNs 6E001 and 6E002

This document also corrects two other inadvertent omissions made by the FRY Rule. The September 23, 2002 rule had revised the License Exceptions for ECCNs 6E001 and 6E002. The FRY rule omitted the revision in the License Exception section of ECCN 6E001, which noted that “technology” for commodities controlled by 6A002.e or 6A008.j.1, and technology for “software” defined in 6A008.j.1 and controlled by 6D001or 6D002 are not eligible for License Exception TSR. The FRY rule also did not include the revision of the License Exception section of ECCN 6E002 that noted that “technology” for commodities controlled by ECCNs 6A002.e or 6A008.j.1 is not eligible for License Exception TSR.

Rulemaking Requirements

1. This final rule has been determined not to be significant for purposes of E.O. 12866.

2. Notwithstanding any other provision of law, no person is required to respond to, nor shall any person be subject to a penalty for failure to comply with a collection of information, subject to the requirements of the Paperwork Reduction Act (PRA), unless that collection of information displays a currently valid Office of Management and Budget Control Number. This rule involves collections of information subject to the Paperwork Reduction Act of 1995 (44 U.S.C. 3501 et seq.) These collections have been approved by the Office of Management and Budget (OMB) under control number 0694-0088, “Multi-Purpose Application,” which carries a burden hour estimate of 40 minutes to prepare and submit electronically and 45 minutes to submit manually form BIS-748P. Send comments regarding these burden estimates or any other aspect of these collections of information, including suggestions for reducing the burden, to OMB Desk Officer, New Executive Office Building, Washington, DC 20503; and to the Regulatory Policy Division, Bureau of Industry and Security, Department of Commerce, P.O. Box 273, Washington, DC 20044.

3. This rule does not contain policies with Federalism implications as that term is defined under Executive Order 13132.

4. The provisions of the Administrative Procedure Act (5 U.S.C. 553) requiring notice of proposed rulemaking, the opportunity for public participation, and a delay in effective date, are inapplicable because this regulation involves a military and foreign affairs function of the United States (Sec. 5 U.S.C. 553 (a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable. Therefore, this regulation is issued in final form. Although there is no public comment period, public comments on this regulation are welcome on a continuing basis. Comments should be submitted to Sheila Quarterman, Regulatory Policy Division, Bureau of Industry and Security, Department of Commerce, P.O. Box 273, Washington, DC 20044.

List of Subjects in 15 CFR Part 774

Exports, Foreign trade.

Accordingly, Part 774 of the Export Administration Regulations (15 CFR parts 730-799) is amended as follows:

1. The authority citation for Part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Publ. L. 106-387; Sec. 221, Publ. L. 107-56; E.O. 13026, 61 FR 58767, 3 CFR, 1996 Comp., p. 228; E.O. 13222, 66 FR 44025, 3 C.F.R., 2001 Comp., p. 783; Notice of August 14, 2002, 67 FR 53721, August 16, 2002.

PART 774—[CORRECTED]

2. In Supplement No. 1 to Part 774 (the Commerce Control List), Category 6—Sensors and Lasers, the following Export Control Classification Numbers (ECCNs) are amended by revising the License Requirements section and License Exceptions section for ECCNs 6E001 and 6E002 to read as follows:

6E001 “Technology” according to the General Technology Note for the “development” of equipment, materials or “software” controlled by 6A (except 6A018, 6A991, 6A992, 6A994, 6A995, 6A996, 6A997, or 6A998), 6B (except 6B995), 6C (except 6C992 or 6C994), or 6D (except 6D991, 6D992, or 6D993).

License Requirements

Reason for Control: NS, MT, NP, RS, CC, AT, UN.

Control(s) | Country chart
NS applies to “technology” for items controlled by 6A001 to 6A008, 6B004 to 6B008, 6C002 to 6C005, or 6D001 to 6D003 | NS Column 1.
MT applies to “technology” for items controlled by 6A002, 6A007, 6A008, 6A102, 6A107, 6A108, 6B008, 6B108, 6D001, 6D002, 6D102 or 6D103 for MT reasons | MT Column 1.
NP applies to “technology” for equipment controlled by 6A003, 6A005, 6A202, 6A203, 6A205, 6A225, 6A226 or 6D001 for NP reasons | NP Column 1.
RS applies to “technology” for equipment controlled by 6A002.a.1, .a.2, .a.3, .c, or.e, 6A003.b.3 or .b.4, or 6A008.j.1 | RS Column 1.
CC applies to “technology” for equipment controlled by 6A002 for CC reasons | CC Column 1.
AT applies to entire entry | AT Column 1.
UN applies to “technology” for equipment controlled by 6A002 or 6A003 for UN reasons | Rwanda.

License Requirement Notes: See § 743.1 of the EAR for reporting requirements for exports under License Exceptions.

License Exceptions

CIV: N/A.

TSR: Yes, except for the following:

(1) Items controlled for MT reasons;

(2) “Technology” for commodities controlled by 6A002.e, 6A004.e, or 6A008.j.1;

(3) “Technology” for “software” specially designed for “space qualified” “laser” radar or Light Detection and Ranging (LIDAR) equipment defined in 6A008.j.1 and controlled by 6D001 or 6D002;

(4) Exports or reexports to destinations outside of Austria, Belgium, Canada, Denmark, Finland, France, Germany, Greece, Ireland, Italy, Japan, Luxembourg, the Netherlands, Portugal, Spain, Sweden, or the United Kingdom of “technology” for the “development” of the following: (a) Items controlled by 6A001.a.2.a.1, 6A001.a.2.a.2, 6A001.a.2.a.5, 6A001.a.2.b, 6A001.a.2.e., 6A002.a.1.c, 6A008.l.3, 6B008, 6D003.a; (b) Equipment controlled by 6A001.a.2.c or 6A001.a.2.f when specially designed for real time applications; or (c) “Software” controlled by 6D001 and specially designed for the “development” or “production” of equipment controlled by 6A008.l.3 or 6B008; or

(5) Exports or reexports to Rwanda.

* * * * *

6E002 “Technology” according to the General Technology Note for the “production” of equipment or materials controlled by 6A (except 6A018, 6A991, 6A992, 6A994, 6A995, 6A996, 6A997 or 6A998), 6B (except 6B995) or 6C (except 6C992 or 6C994).

License Requirements

Reason for Control: NS, MT, NP, RS, CC, AT, UN.

Control(s) | Country chart
NS applies to “technology” for equipment controlled by 6A001 to 6A008, 6B004 to 6B008, or 6C002 to 6C005 | NS Column 1.
MT applies to “technology” for equipment controlled by 6A002, 6A007, 6A008, 6A102, 6A107, 6A108, 6B008, or 6B108 for MT reasons | MT Column 1.
NP applies to “technology” for equipment controlled by 6A003, 6A005, 6A202, 6A203, 6A205, 6A225 or 6A226 for NP reasons | NP Column 1.
RS applies to “technology” for equipment controlled by 6A002.a.1, .a.2, .a.3, .c or .e, 6A003.b.3 or .b.4, or 6A008.j.1 | RS Column 1.
CC applies to “technology” for equipment controlled by 6A002 for CC reasons | CC Column 1.
AT applies to entire entry | AT Column 1.
UN applies to “technology” for equipment controlled by 6A002 or 6A003 for UN reasons | Rwanda.

License Requirement Notes: See § 743.1 of the EAR for reporting requirements for exports under License Exceptions.

License Exceptions

CIV: N/A.

TSR: Yes, except for the following:

(1) Items controlled for MT reasons;

(2) “Technology” for commodities controlled by 6A002.e, 6A004.e, 6A008.j.1;

(3) Exports or reexports to destinations outside of Austria, Belgium, Canada, Denmark, Finland, France, Germany, Greece, Ireland, Italy, Japan, Luxembourg, the Netherlands, Portugal, Spain, Sweden, or the United Kingdom of “technology” for the “development” of the following: (a) Items controlled by 6A001.a.2.a.1, 6A001.a.2.a.2, 6A001.a.2.a.5, 6A001.a.2.b, and 6A001.a.2.c; and (b) Equipment controlled by 6A001.a.2.e and 6A001.a.2.f when specially designed for real time applications; or (c) “Software” controlled by 6D001 and specially designed for the “development” or “production” of equipment controlled by 6A002.a.1.c, 6A008.l.3 or 6B008; or

(4) Exports or reexports to Rwanda.

* * * * *

Dated: June 24, 2003.
Eileen M. Albanese,
Director, Office of Exporter Services, Export Administration.

[FR Doc. 03-16469 Filed 6-27-03; 8:45 am]

BILLING CODE 3510-33-P